COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities and deletes products previously furnished by such agencies.

COMMENTS MUST BE RECEIVED ON OR BEFORE: 11/19/2012.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 7920-00-NIB-0542—Scrub Brush, Polypropylene Bristles, Extension Pole-Compatible, 2″ × 8″.

NSN: 7920-00-NIB-0545—Scrub Brush, Wire, Knuckle Guard, Long Handle, Ergonomic, 6″ × 1 1/8″, w/built-in scraper.

NSN: 7920-00-NIB-0547—Scrub Brush, Wire, Stainless, Ergonomic, 5″.

NSN: 7920-00-NIB-0558—Scrub Brush, Wire, Black Tempered, Ergonomic, 5″.

NSN: 7920-00-NIB-0563—Wire Brush, Wire, Knuckle Guard, Long Handle, Ergonomic, 6″ × 1 1/8″.

NPA: Industries for the Blind, Inc., West Allis, WI.

Contracting Activity: General Services Administration, Fort Worth, TX.

Coverage: B-List for the Broad Government Requirement as aggregated by the General Services Administration.

Services

Service Type/Location: Administrative Services, Dept. of Housing and Urban Development (HUD), MultiLocations—Nationwide, 77 West Jackson Blvd., Rm. 2517, Mail Code: NFNC, Chicago, IL.

NPA: Nobis Enterprises, Inc., Marietta, GA.

Contracting Activity: Department of Housing and Urban Development, Chicago, IL.

Service Type/Location: Contract Closeout, Architect of the Capitol, Acquisitions & Material Mgmt. Div., Ford House Office Building, H2-263, Washington, DC

NPA: ServiceSource, Inc., Alexandria, VA.

Contracting Activity: Architect of the Capitol, Washington, DC.

Service Type/Location: Mess Attendant Services, 128th Air Refueling Wing, Wisconsin Air National Guard (WI ANG) Dining Facility, Bldg. 611, 1919 E Grange Ave., Milwaukee, WI.

NPA: Easter Seals Southeast Wisconsin, Inc., South Milwaukee, WI.

Contracting Activity: Dept of the Army, W7N8 USPFO Activity WI ARNG, Camp Douglas, WI.

The following information is provided to further describe the Mess Attendant Services being proposed for addition to the Procurement List. For this project, the DOD contracting activity specifically identified its requirement as Food Service Attendants (FSA) Service in its Performance Work Statement (PWS) which is synonymous with Mess Attendant Services . The PWS describes the FSA service tasks as (1) Serving and replenishing food; (2) Cleaning facilities, equipment, and utensils; (3) Cleaning tables in the Dining Area; (4) Handling food, supplies, and equipment; and (5) Maintaining quality control. The PWS also requires a minimum number of housekeeping and grounds maintenance tasks be performed by the FSA.

Deletions

The following products are proposed for deletion from the Procurement List:

Products

NSN: 7520-01-443-4902—VuRyte—VuRyser Ergonomic Computer Workstation.

NSN: 7520-01-453-6246—VuRyte—VuRyser Ergonomic Computer Workstation.

NSN: 7520-01-453-6247—VuRyte—VuRyser Ergonomic Computer Workstation.

NSN: 7520-01-461-1552—VuRyte Document Holder.

NPA: Tarrant County Association for the Blind, Fort Worth, TX.

Contracting Activity: General Services Administration, New York, NY.

Barry S. Lineback,
Director, Business Operations.

[FR Doc. 2012-25778 Filed 10-18-12; 8:45 am]

BILLING CODE 6353-01-P